DEPARTMENT OF HEALTH AND HUMAN SERVICES

Agency for Toxic Substances and Disease Registry

[ATSDR-250]

Availability of an Update to the ATSDR Policy Guideline for Dioxins and Dioxin-Like Compounds in Residential Soil; Correction

AGENCY: Agency for Toxic Substances and Disease Registry (ATSDR), Department of Health and Human Services (DHHS).

ACTION: Notice Correction.

SUMMARY: Correction: This notice was published in the Federal Register on October 15, 2008, Volume 73, Number 200, page 61133. The original version of the ATSDR Dioxin Soil Policy that was posted on the ATSDR Web site at: http://www.atsdr.cdc.gov/substances/dioxin/policy prior to November 3, 2008, has been updated to include some minor edits to the policy. These updates are now available at the ATSDR Web site for your review.

Dated: November 21, 2008.
Ken Rose,
Director, Office of Policy, Planning, and Evaluation, National Center for Environmental Health/Agency for Toxic Substances and Disease Registry.

[FR Doc. E8-28261 Filed 11-26-08; 8:45 am]

BILLING CODE 4163-70-P